Title 3—

The President

Executive Order 13176 of November 27, 2000

Facilitation of a Presidential Transition

By the authority vested in me as President by the Constitution and the laws of the United States of America, including 5 U.S.C. 7301, to further the purposes of the Presidential Transition Act of 1963, as amended, and to assist the transition from this Administration to that of the President- elect, it is hereby ordered as follows:

Section 1. Presidential Transition Coordination. (a) To assist and support the transition efforts of the President-elect, there is established a Presidential Transition Coordinating Council (Council).

(b) The Council shall be composed of the following officials or their designees:

1. Chief of Staff to the President;

2. Counsel to the President;

3. Assistant to the President and Cabinet Secretary;

4. Assistant to the President for Management and Administration;

5. Assistant to the President and Director of Presidential Personnel;

6. Director of the Office of Management and Budget;

7. Director of the Federal Bureau of Investigation;

8. Director of the Office of Personnel Management;

9. Administrator of General Services;

10. Archivist of the United States;

11. Commissioner of Internal Revenue;

12. Director of the Office of Government Ethics; and

13. Such others as the President may select.

(c) The Council shall be chaired by the Chief of Staff to the President or his designee.

(d) The Council shall coordinate assistance to the President-elect in fulfilling his responsibilities and make every reasonable effort to facilitate the transition between administrations. This assistance may include, among other things, providing publicly available information relevant to facilitating the personnel aspects of a presidential transition and such other information that, in the Council's judgement, is useful and appropriate as long as providing such information is not otherwise prohibited by law.

Sec. 2. Transition Activities and Materials. (a) The Administrator of General Services, in consultation with the Director of the Office of Presidential Personnel, the Director of the Office of Personnel Management, and the Director of the Office of Government Ethics, shall coordinate orientation activities for key prospective Presidential appointees.

(b) The Administrator of General Services, in consultation with the Director of the Office of Presidential Personnel, the Director of the Office of Personnel Management, and the Archivist of the United States, shall develop a transition directory. The transition directory shall include Federal publications and materials that provide information on the officers, organization, and statutory and administrative authorities, functions, duties, responsibilities, and mission of each department and agency.

(c) The White House Office of Presidential Personnel shall coordinate with all departments and agencies of the executive branch of the Government to produce a catalogue of all positions in their respective jurisdictions that are filled by presidential appointment requiring Senate confirmation (PAS positions). The catalogue shall include:

(1) the legal authority establishing each PAS position;

(2) a description of duties and statutory authorities of the position;

(3) the names of Senate committees that review nominees for the position;

(4) the names of congressional committees with which appointees in the position regularly interact; and

(5) the name and contact information of an experienced executive in the agency or department, a previous office holder or a White House Liaison, or a comparable individual who can answer questions about the position.

(d) Executive departments and agencies shall prepare a set of orientation materials for new political appointees before the inauguration of the President-elect. Copies of all such materials shall be provided to the Incoming Transition Team upon its request.

Sec. 3. Transition Agreement. To assist and support the transition efforts of the President-elect, a transition agreement between the current Administration and the Office of the President-elect will be entered into regarding transition procedures and identification of transition contacts.

wj

THE WHITE HOUSE,

November 27, 2000.

[FR Doc. 00-30690

Filed 11-28-00; 8:45 am]

Billing code 3195-01-P